DEPARTMENT OF ENERGY

Federal Energy Regulatory Commission

Notice of Availability of the Final Environmental Impact Statement for the Proposed Leach Xpress Project and Rayne Xpress Expansion Project

| Docket No.
Columbia Gas Transmission, LLC | CP15-514-000
Columbia Gulf Transmission. LLC | CP15-539-000

The staff of the Federal Energy Regulatory Commission (FERC or Commission) has prepared a final environmental impact statement (EIS) for the Leach XPress and Rayne XPress Expansion Projects (Projects), proposed by Columbia Gas Transmission, LLC (Columbia Gas) and Columbia Gulf Transmission, LLC (Columbia Gulf), respectively, in the above-referenced dockets. Columbia Gas requests authorization to construct, operate, abandon in-place, replace, and operate certain natural gas pipeline facilities in West Virginia, Pennsylvania, and Ohio to transport about 1.5 million dekatherms of natural gas per day of firm transportation service to natural gas consumers served by the Columbia Gas pipeline systems. Columbia Gulf requests authorization to add new compression in Kentucky to provide about 621,000 dekatherms per day of firm transportation on Columbia Gulf's system.

The final EIS assesses the potential environmental effects of the construction and operation of the Projects in accordance with the requirements of the National Environmental Policy Act (NEPA). The FERC staff concludes that approval of the Projects would have some adverse and significant environmental impacts; however, these impacts would be reduced to less than significant levels with the implementation of Columbia Gas' and Columbia Gulf's proposed mitigation and the additional measures recommended by staff in the final EIS.

The Environmental Protection Agency, U.S. Army Corps of Engineers, U.S. Fish and Wildlife Service, Kentucky Department for Environmental Protection, Ohio Environmental Protection Agency, Pennsylvania Department of Conservation and Natural Resources, Pennsylvania Department of Environmental Protection, West Virginia Department of Environmental Protection, and West Virginia Department of Natural Resources participated as cooperating agencies in the preparation of the final EIS. Cooperating agencies have jurisdiction by law or special expertise with respect to resources potentially affected by the proposals and participate in the NEPA analysis. Although the cooperating agencies provided input to the conclusions and recommendations presented in the final EIS, the agencies will present their own conclusions and recommendations in their respective Records of Decision for the Projects.

The final EIS addresses the potential environmental effects of the construction and operation of the following facilities:

• 132 miles of new 36-inch-diameter natural gas pipeline, 24 miles of 36- inch-diameter looping pipeline,¹ 28 miles of 20-inch-diameter pipeline to be abandoned in place, 3 new compressor stations, and appurtenant facilities including 2 existing compressor station modifications, 4 new and 1 modified regulator stations, 13 pig launcher and receiver facilities,² 9 mainline valves and 5 odorization facilities proposed by Columbia Gas; and

¹ A pipeline loop is a segment of pipe constructed parallel to an existing pipeline to increase capacity.

² A pig is an internal tool that can be used to clean and dry a pipeline and/or to inspect it for damage or corrosion.

• two new compressor stations, and a modification to an existing measurement and regulation station proposed by Columbia Gulf.

The FERC staff mailed copies of the final EIS to federal, state, and local government representatives and agencies; elected officials; environmental and public interest groups; Native American tribes; potentially affected landowners and other interested individuals and groups; newspapers and libraries in the project area; and parties to this proceeding. Paper copy versions of this final EIS were mailed to those specifically requesting them; all others received a CD version. In addition, the final EIS is available for public viewing on the FERC's Web site (www.ferc.gov) using the eLibrary link. A limited number of copies are available for distribution and public inspection at: Federal Energy Regulatory Commission, Public Reference Room, 888 First Street NE., Room 2A, Washington, DC 20426, (202) 502-8371.

Additional information about the project is available from the Commission's Office of External Affairs, at (866) 208-FERC, or on the FERC Web site (www.ferc.gov) using the eLibrary link. Click on the eLibrary link, click on “General Search,” and enter the docket number excluding the last three digits in the Docket Number field (i.e., CP15-514 or CP15-539). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: September 1, 2016.
Nathaniel J. Davis, Sr.,
Deputy Secretary.

[FR Doc. 2016-21681 Filed 9-8-16; 8:45 am]

BILLING CODE 6717-01-P